DEPARTMENT OF ENERGY

Federal Energy Regulatory Commission

[Docket No. CP00-36-000]

Guardian Pipeline, L.L.C.; Notice of Availability of the Final Environmental Impact Statement for the Proposed Guardian Pipeline Project

January 5, 2001.

The staff of the Federal Energy Regulatory Commission (FERC or Commission) has prepared this final environmental impact statement (final EIS) on natural gas pipeline facilities proposed by Guardian Pipeline, L.L.C. (Guardian) in the above-referenced docket.

The final EIS was prepared to satisfy the requirements of the National Environmental Policy Act. The staff concludes that approval of the proposed project, with appropriate mitigating measures as recommended, would have limited adverse environmental impact. The final EIS evaluates alternatives to the proposal, including system alternatives; route alternatives; route variations, and minor route variations.

The final EIS addresses the potential environmental effects of the construction and operation of the following facilities in Illinois and Wisconsin:

• 141.3 miles of 36-inch-diameter pipeline extending from Joliet, Illinois to Ixonia, Wisconsin;

• 8.5 miles of 16-inch-diameter lateral pipeline in Walworth and Waukesha Counties, Wisconsin (Eagle Lateral);

• A total of 0.11, 24, and 16-inch-diameter pipeline to connect the project to existing pipeline systems in Will County, Illinois;

One 22,225-horsepower compressor station (Joliet Compressor Station) in Will County, Illinois;

• Seven new meter stations; and

• Associated pipeline facilities, including eight mainline valves.

The purpose of the Guardian Pipeline Project is to transport up to 750,000 decatherms per day of natural gas from the Chicago Hub to markets in northern Illinois and Wisconsin.

Wisconsin Gas Company (WGC) also proposes to construct about 35 miles of 30-, 24-, and 16-inch diameter pipeline (WGC Lateral Line Project) extending eastward from the northern terminus of the Guardian Pipeline in Wisconsin. WGC's Lateral Line Project is under the jurisdiction of the Public Service Commission of Wisconsin (PSCW). Although these facilities are not under the jurisdiction of the FERC, they are analyzed in this final EIS. The PSCW is participating in the EIS process as a cooperating agency, as is the Wisconsin Department of Natural Resources.

This final EIS has been placed in the public files of the FERC and is available for public inspection at: Federal Energy Regulatory Commission, Public Reference and Files Maintenance Branch, 888 First Street, NE., Washington, DC 20426, (202) 208-1371.

Copies of the final EIS have been mailed to Federal, state, and local agencies, public interest groups, individuals who have requested the final EIS, newspapers, and parties to this proceeding. In addition, a limited number of copies are available from the Public Reference and Files Maintenance Branch identified above.

Additional information about the proposed project is available from the Commission's Office of External Affairs, at (202) 208-1008 or on the FERC Internet website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-868 Filed 1-10-01; 8:45 am]

BILLING CODE 6717-01-M